DEPARTMENT OF COMMERCE

National Oceanic and Atmospheric Administration

Evaluation of State Coastal Management Programs

AGENCY: Office for Coastal Management (OCM), National Ocean Service (NOS), National Oceanic and Atmospheric Administration (NOAA), Department of Commerce (DOC).

ACTION: Notice of Intent to Evaluate State Coastal Management Programs.

SUMMARY: The National Oceanic and Atmospheric Administration (NOAA), Office for Coastal Management will hold a public meeting to solicit comments on the performance evaluation of the California State Coastal Conservancy and San Francisco Bay Conservation and Development Commission, both part of the California Coastal Management Program.

DATES: California State Coastal Conservancy and San Francisco Bay Conservation and Development Commission Program Evaluation: The public meeting will be held on October 25, 2017, and written comments must be received on or before November 3, 2017.

For specific dates, times, and locations of the public meetings, see SUPPLEMENTARY INFORMATION.

ADDRESSES: You may submit comments on the program or reserve NOAA intends to evaluate by any of the following methods:

Public Meeting and Oral Comments: A public meeting will be held in Oakland, California. For the specific location, see SUPPLEMENTARY INFORMATION.

Written Comments: Please direct written comments to Carrie Hall, Evaluator, Planning and Performance Measurement Program, Office for Coastal Management, NOS/NOAA, 1305 East-West Highway, 11th Floor, N/OCM1, Silver Spring, Maryland 20910, or email comments to Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov. Copies of the previous evaluation findings and 2016-2020 San Francisco Bay Conservation and Development Commission Assessment and Strategy may be viewed and downloaded on the Internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA), 16 U.S.C. 1458, requires NOAA to conduct periodic evaluations of federally approved state and territorial coastal programs. The process includes one or more public meetings, consideration of written public comments and consultations with interested Federal, state, and local agencies and members of the public. During the evaluation, NOAA will consider the extent to which the state has met the national objectives and coastal management needs, adhered to the management program approved by the Secretary of Commerce, and adhered to the terms of financial assistance under the CZMA. When the evaluation is completed and within 120 days of the last public meeting held, NOAA's Office for Coastal Management will place a notice in the Federal Register announcing the availability of the Final Evaluation Findings.

Specific information on the periodic evaluation of the state and territorial coastal program that is the subject of this notice is detailed below as follows:

California State Coastal Conservancy and San Francisco Bay Conservation and Development Commission Program Evaluation

You may participate or submit oral comments at the public meeting scheduled as follows:

Date: October 25, 2017.

Time: 6:00 p.m., local time.

Location: Oakland State Building, 2nd Floor, Conference Room 11, 1515 Clay Street, Oakland, CA.

Written public comments must be received on or before November 3, 2017.

Federal Domestic Assistance Catalog 11.419.

Coastal Zone Management Program Administration.
Dated: August 31, 2017.
Paul Scholz,
Deputy Director, Office for Coastal Management, National Ocean Service, National Oceanic and Atmospheric Administration.

[FR Doc. 2017-19178 Filed 9-8-17; 8:45 am]

BILLING CODE 3510-08-P